OFFICE OF PERSONNEL MANAGEMENT

5 CFR Part 532

RIN 3206-AN26

Prevailing Rate Systems; Abolishment of the Newburgh, NY, Appropriated Fund Federal Wage System Wage Area

AGENCY: U.S. Office of Personnel Management.

ACTION: Proposed rule with request for comments.

SUMMARY: The U.S. Office of Personnel Management (OPM) is issuing a proposed rule that would abolish the Newburgh, New York, appropriated fund Federal Wage System (FWS) wage area and redefine Orange County, NY, to the New York, NY, survey area; Dutchess County, NY, to the New York area of application; Delaware and Ulster Counties, NY, to the Albany-Schenectady-Troy, NY, area of application; and Sullivan County, NY, to the Scranton-Wilkes-Barre, Pennsylvania, area of application. These changes are based on a recent consensus recommendation of the Federal Prevailing Rate Advisory Committee (FPRAC) to best match the counties proposed for redefinition to nearby FWS survey areas.

DATES: We must receive comments on or before December 30, 2015.

ADDRESSES: You may submit comments, identified by “RIN 3206-AN26,” using any of the following methods:

Federal eRulemaking Portal: http://www.regulations.gov. Follow the instructions for submitting comments.

Mail: Brenda L. Roberts, Deputy Associate Director for Pay and Leave, Employee Services, U.S. Office of Personnel Management, Room 7H31, 1900 E Street, NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule that would abolish the Newburgh, NY, appropriated fund FWS wage area and redefine the geographic boundaries of the New York, NY; Albany-Schenectady-Troy, NY; and Scranton-Wilkes-Barre, PA, appropriated fund FWS wage areas. The proposed rule would redefine Orange County, NY, to the New York survey area; Dutchess County, NY, to the New York area of application; Delaware and Ulster Counties, NY, to the Albany-Schenectady-Troy area of application; and Sullivan County, NY, to the Scranton-Wilkes-Barre area of application.

The Newburgh wage area is presently composed of three survey counties (Dutchess, Orange, and Ulster Counties) and two area of application counties (Delaware and Sullivan Counties).

Under section 5343 of title 5, United States Code, OPM is responsible for defining wage areas following the regulatory criteria under section 532.211 of title 5, Code of Federal Regulations. Under the regulatory criteria, OPM considers the following factors when defining FWS wage area boundaries:

(i) Distance, transportation facilities, and geographic features;

(ii) Commuting patterns; and

(iii) Similarities in overall population, employment, and the kinds and sizes of private industrial establishments.

The Office of Management and Budget defines Metropolitan Statistical Areas (MSAs) and maintains and updates the definitions of MSA boundaries following each decennial census. OMB's 2013 definitions of MSAs added Dutchess and Orange Counties to the New York-Newark-Jersey City, NY-NJ-PA MSA. The New York-Newark-Jersey City is now split between the Newburgh and New York wage areas. OPM regulations at 5 CFR 532.211 do not permit splitting MSAs for the purpose of defining a wage area, except in very unusual circumstances.

Dutchess and Orange Counties, NY

Bergen, Essex, Hudson, Hunterdon, Middlesex, Monmouth, Morris, Ocean, Passaic, Somerset, Sussex, and Union Counties, NJ; Bronx, Dutchess, Kings, Nassau, New York, Orange, Putnam, Queens, Richmond, Rockland, Suffolk, and Westchester Counties, NY; and Pike County, PA, comprise the New York-Newark-Jersey City, NY-NJ-PA MSA. The New York-Newark-Jersey City MSA contains parts of the Newburgh and New York FWS wage areas. Bergen, Essex, Hudson, Middlesex, Morris, Passaic, Somerset, and Union Counties, NJ, and Bronx, Kings, Nassau, New York, Queens, Suffolk, and Westchester Counties, NY, are part of the New York survey area. Hunterdon, Monmouth, Ocean (excluding the Fort Dix Military Reservation), and Sussex Counties, NJ; Putnam, Richmond, and Rockland Counties, NY; and Pike County, PA, are part of the New York area of application. Dutchess and Orange Counties, NY, are part of the Newburgh survey area.

There now appear to be no unusual circumstances for Dutchess and Orange Counties to be split from the majority of the counties of the New York-Newark-Jersey City MSA. Therefore, OPM proposes to redefine Dutchess and Orange Counties to the New York wage area. Because Orange County has a large FWS workforce of 800 employees, it would be redefined to the New York survey area. With only 39 FWS employees, Dutchess County would be redefined to the New York area of application.

Delaware, Sullivan, and Ulster Counties, NY

With the redefinition of Dutchess and Orange Counties to the New York wage area, the Newburgh wage area would no longer be a viable wage area and would be abolished. Its remaining constituent counties would be redefined to a neighboring wage area.

In selecting a wage area to which Delaware County should be redefined, the distance criterion favors the Albany-Schenectady-Troy wage area. The commuting patterns criterion slightly favors the New York wage area. The overall population and employment and the kinds and sizes of private industrial establishments criterion does not favor one wage area more than another. Based on these findings, OPM is proposing to redefine Delaware County as an area of application county to the Albany-Schenectady-Troy wage area.

In selecting a wage area to which Sullivan County would be redefined, the distance criterion favors the Scranton-Wilkes-Barre wage area. The commuting patterns criterion favors the New York wage area. The overall population and employment and the kinds and sizes of private industrial establishments criterion does not favor one wage area more than another. Based on these findings, OPM is proposing to redefine Sullivan County as an area of application to the Scranton-Wilkes-Barre area of application.

In selecting a wage area to which Ulster County would be redefined, the distance criterion favors the Albany-Schenectady-Troy wage area. The commuting patterns criterion favors the New York wage area. The overall population and employment and the kinds and sizes of private industrial establishments criterion does not favor one wage area more than another. Based on these findings, OPM is proposing to redefine Ulster County as an area of application county to the Albany-Schenectady-Troy wage area.

The Federal Prevailing Rate Advisory Committee (FPRAC), the statutory national labor-management committee responsible for advising OPM on matters affecting the pay of FWS employees, recommended these changes by consensus. These changes would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—[Amended]

2. Appendix A to subpart B of part 532 is amended for the State of New York by removing the entry for Newburg.

3. Appendix C to subpart B is amended by removing the wage area listing for Newburgh, NY, and revising the wage area listing for the Albany-Schenectady-Troy, NY; New York, NY; and Scranton-Wilkes-Barre, PA, wage areas to read as follows:

Appendix C to Subpart B of Part 532—Appropriated Fund Wage and Survey Areas

* * * * *

NEW YORK

Albany-Schenectady-Troy

Survey Area

New York:

Albany

Montgomery

Rensselaer

Saratoga

Schenectady

Area of Application. Survey area plus:

New York:

Columbia

Delaware

Fulton

Greene

Schoharie

Ulster

Warren

Washington

* * * * *

New York

Survey Area

New Jersey:

Bergen

Essex

Hudson

Middlesex

Morris

Passaic

Somerset

Union

New York:

Bronx

Kings

Nassau

New York

Orange

Queens

Suffolk

Westchester

Area of Application. Survey area plus:

New Jersey:

Hunterdon

Monmouth

Ocean (Excluding the Fort Dix Military Reservation)

Sussex

New York:

Dutchess

Putnam

Richmond

Rockland

Pennsylvania:

Pike

* * * * *

PENNSYLVANIA

* * * * *

Scranton-Wilkes-Barre

Survey Area

Pennsylvania:

Lackawanna

Luzerne

Monroe

Area of Application. Survey area plus:

New York:

Sullivan

Pennsylvania:

Bradford

Columbia

Lycoming (Excluding Allenwood Federal Prison Camp)

Montour

Sullivan

Susquehanna

Wayne

Wyoming

* * * * *

[FR Doc. 2015-30310 Filed 11-27-15; 8:45 am]

BILLING CODE 6325-39-P